DEPARTMENT OF COMMERCE

Foreign-Trade Zones Board

[S-183-2019]

Foreign-Trade Zone 26—Atlanta, Georgia; Application for Subzone Patterson Pump Company Toccoa, Georgia

An application has been submitted to the Foreign-Trade Zones Board (the Board) by Georgia Foreign-Trade Zone, Inc., grantee of FTZ 26, requesting subzone status for the facility of Patterson Pump Company, located in Toccoa, Georgia. The application was submitted pursuant to the provisions of the Foreign-Trade Zones Act, as amended (19 U.S.C. 81a-81u), and the regulations of the Board (15 CFR part 400). It was formally docketed on September 17, 2019.

The proposed subzone (20 acres) is located at 2129 Ayersville Road, Toccoa, Georgia. A notification of proposed production activity has been submitted and is being processed under 15 CFR 400.37 (Doc. B-53-2019). The proposed subzone would be subject to the existing activation limit of FTZ 26.

In accordance with the Board's regulations, Christopher Kemp of the FTZ Staff is designated examiner to review the application and make recommendations to the Executive Secretary.

Public comment is invited from interested parties. Submissions shall be addressed to the Board's Executive Secretary and sent to: ftz@trade.gov. The closing period for their receipt is November 4, 2019. Rebuttal comments in response to material submitted during the foregoing period may be submitted during the subsequent 15-day period to November 18, 2019.

A copy of the application will be available for public inspection in the “Reading Room” section of the Board's website, which is accessible via www.trade.gov/ftz. For further information, contact Christopher Kemp at Christopher.Kemp@trade.gov or (202) 482-0862.

Dated: September 17, 2019.
Andrew McGilvray,
Executive Secretary.

[FR Doc. 2019-20514 Filed 9-20-19; 8:45 am]

BILLING CODE 3510-DS-P